FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 008786N.

Name: Bermuda Freight Systems Inc.

Address: 969 Newark Turnpike, Kearny, NJ 07032.

Date Revoked: August 18, 2005.

Reason: Failed to maintain a valid bond.

License Number: 012658N.

Name: Elteha International U.S.A., Ltd. dba LTH International.

Address: 5353 West Imperial Highway, Suite 700, Los Angeles, CA 90045.

Date Revoked: August 10, 2005.

Reason: Failed to maintain a valid bond.

License Number: 003170N.

Name: GAP Forwarding, Inc.

Address: 2790 NW 104th Court, Suite 101, Miami, FL 33172.

Date Revoked: May 11, 2005.

Reason: Failed to maintain a valid bond.

License Number: 008832N.

Name: Profes System Incorporated dba All State International Freight Co.

Address: 167-55 148th Avenue, Jamaica, NY 11434.

Date Revoked: August 5, 2005.

Reason: Failed to maintain a valid bond.

Sandra L. Kusumoto,
Director, Bureau of Certification and Licensing.

[FR Doc. 05-18267 Filed 9-13-05; 8:45 am]

BILLING CODE 6730-01-P